ENVIRONMENTAL PROTECTION AGENCY

[FRL-8957-5; Docket ID No. EPA-HQ-ORD-2009-0229]

Draft Toxicological Review of Ethyl Tertiary Butyl Ether: In Support of the Summary Information in the Integrated Risk Information System (IRIS)

AGENCY: Environmental Protection Agency (EPA).

ACTION: Notice of listening session.

SUMMARY: EPA is announcing a listening session to be held on October 7, 2009, during the public comment period for the external review draft document entitled, “Toxicological Review of Ethyl Tertiary Butyl Ether: In Support of Summary Information on the Integrated Risk Information System (IRIS)” (EPA/635/R-08/019A). This listening session is a step in EPA's revised IRIS process, announced on May 21, 2009, to develop human health assessments for inclusion in the IRIS database. The purpose of the listening session is to allow all interested parties to present scientific and technical comments on draft IRIS health assessments to EPA and other interested parties during the public comment period and before the external peer review meeting. EPA welcomes the scientific and technical comments that will be provided to the Agency by the listening session participants. The comments will be considered by the Agency as it revises the draft assessment in response to the independent external peer review and public comments. All presentations will become part of the official public record.

The EPA's draft assessment and peer review charge are available via the Internet on the National Center for Environmental Assessment's (NCEA) home page under the Recent Additions and Publications menus at http://www.epa.gov/ncea.

DATES: The listening session on the draft IRIS health assessment for Ethyl Tertiary Butyl Ether will be held on October 7, 2009, beginning at 9 a.m. and ending at 4 p.m., Eastern Daylight Time. If you want to make a presentation at the listening session, you should register by September 30, 2009, indicate that you wish to make oral comments at the session, and indicate the length of your presentation. When you register, please indicate if you will need audio-visual aid (e.g., lap top and slide projector). In general, each presentation should be no more than 30 minutes. If, however, there are more requests for presentations than the allotted time allows, then the time limit for each presentation will be adjusted. A copy of the agenda for the listening session will be available at the meeting. If no speakers have registered by September 30, 2009, the listening session will be cancelled and EPA will notify those registered of the cancellation.

The public comment period for review of this draft assessment was announced previously in the Federal Register (FR) (74 FR 42069) on August 20, 2009. As stated in that FR notice, the public comment period began on August 20, 2009, and ends October 19, 2009. Any technical comments submitted during the public comment period should be in writing and must be received by EPA by October 19, 2009, according to the procedures outlined below. Only those public comments submitted using the procedures identified in the August 20, 2009 FR notice by the October 19, 2009 deadline will be provided to the independent peer-review panel prior to the peer-review meeting. The date and logistics for the peer-review meeting will be announced later in a separate FR notice.

Listening session participants who want EPA to share their comments with the external peer reviewers should also submit written comments during the public comment period using the detailed and established procedures included in the aforementioned FR notice (August 20, 2009). Comments submitted to the docket prior to the end of the public comment period will be submitted to the external peer reviewers and considered by EPA in the disposition of public comments. All comments must be submitted to the docket, but comments received after the public comment period closes will not be submitted to the external peer reviewers.

ADDRESSES: The listening session on the draft Ethyl Tertiary Butyl Ether assessment will be held at the EPA offices at Two Potomac Yard (North Building), 7th Floor, Room 7100, 2733 South Crystal Drive, Arlington, Virginia 22202. To attend the listening session, register by September 30, 2009, via e-mail at Meetings@erg.com (subject line: Ethyl Tertiary Butyl Ether listening session), by phone: 781-674-7374, or by faxing a registration request to 781-674-2906 (please reference the “Ethyl Tertiary Butyl Ether Listening Session” and include your name, title, affiliation, full address and contact information). Please note that to gain entrance to this EPA building to attend the meeting, attendees must have photo identification with them and must register at the guard's desk in the lobby. The guard will retain your photo identification and will provide you with a visitor's badge. At the guard's desk, attendees should give the name Christine Ross and the telephone number, 703-347-8592, to the guard on duty. The guard will contact Ms. Ross who will meet you in the reception area to escort you to the meeting room. When you leave the building, please return your visitor's badge to the guard and you will receive your photo identification.

A teleconference line will also be available for registered attendees/speakers. The teleconference number is 866-299-3188 and the access code is 926-378-7897, followed by the pound sign (#). The teleconference line will be activated at 8:45 a.m., and you will be asked to identify yourself and your affiliation at the beginning of the call.

Information on Services for Individuals with Disabilities: EPA welcomes public attendance at the “Ethyl Tertiary Butyl Ether Listening Session” and will make every effort to accommodate persons with disabilities. For information on access or services for individuals with disabilities, please contact Christine Ross at 703-347-8592 or ross.christine@epa.gov. To request accommodation of a disability, please contact Ms. Ross, preferably at least 10 days prior to the meeting, to give EPA as much time as possible to process your request.

FOR FURTHER INFORMATION CONTACT: For information on the public listening sessions, please contact Christine Ross, IRIS Staff, National Center for Environmental Assessment, (8601P), U.S. EPA, 1200 Pennsylvania Avenue, NW., Washington, DC 20460; telephone: 703-347-8592; facsimile: 703-347-8689; or e-mail: ross.christine@epa.gov. If you have questions about the draft Ethyl Tertiary Butyl Ether assessment, contact Andrew Hotchkiss, IRIS Staff, National Center for Environmental Assessment, U.S. EPA, 109 T.W. Alexander Drive, B243-01, Durham, NC 27711; telephone: 919-541-4164; facsimile: 919-541-0245; or e-mail: hotchkiss.andrew@epa.gov.

SUPPLEMENTARY INFORMATION: IRIS is a database that contains potential adverse human health effects information that may result from chronic (or lifetime) exposure to specific chemical substances found in the environment. The database (available on the Internet at http://www.epa.gov/iris) contains qualitative and quantitative health effects information for more than 540 chemical substances that may be used to support the first two steps (hazard identification and dose-response evaluation) of a risk assessment process. When supported by available data, the database provides oral reference doses (RfDs) and inhalation reference concentrations (RfCs) for chronic health effects, and oral slope factors and inhalation unit risks for carcinogenic effects. Combined with specific exposure information, government and private entities can use IRIS data to help characterize public health risks of chemical substances in a site-specific situation and thereby support risk management decisions designed to protect public health.

This listening session is a step in EPA's revised process, announced on May 21, 2009, for development of human health assessments for inclusion on IRIS. The updated process is posted on the IRIS home page at http://www.epa.gov/iris.

Dated: September 10, 2009.
Rebecca Clark,
Acting Director, National Center for Environmental Assessment.

[FR Doc. E9-22923 Filed 9-22-09; 8:45 am]

BILLING CODE 6560-50-P